FEDERAL COMMUNICATIONS COMMISSION

47 CFR Part 101

Fixed Microwave Services

CFR Correction

In Title 47 of the Code of Federal Regulations, Part 80 to End, revised as of October 1, 2007, in § 101.113, on page 660, the following two entries are reinstated in numerical order in the table in paragraph (a):

§ 101.113 Transmitter power limitations.

(a) * * *

Frequency band (MHz) | Maximum allowable EIRP ¹,²: Fixed ¹ ,² (dBW) | Maximum allowable EIRP ¹,²: Mobile (dBW)
* * * * *
71,000-76,000¹³ | +55 | +55
81,000-86,000¹³ | +55 | +55
* * * * *
¹ Per polarization.
² For multiple address operations, see § 101.147. Remote alarm units that are part of a multiple address central station projection system are authorized a maximum of 2 watts.
* * * * *
¹³ The maximum transmitter power is limited to 3 watts (5 dBW) unless a proportional reduction in maximum authorized EIRP is required under § 101.115. The maximum transmitter power spectral density is limited to 150 mW per 100 MHz.

* * * * *

[FR Doc. E8-7008 Filed 4-3-08; 8:45 am]

BILLING CODE 1505-01-D